DEPARTMENT OF THE INTERIOR

National Park Service

[NPS-WASO-NRSS-EQD-SSB-NPS0030569; PPWONRADE3, PPMRSNR1Y.NM000 (200); OMB Control Number 1024-0216]

Agency Information Collection Activities; Submission to the Office of Management and Budget for Review and Approval; National Park Service Visitor Survey Card

AGENCY: National Park Service, Interior.

ACTION: Notice of information collection; request for comment.

SUMMARY: In accordance with the Paperwork Reduction Act of 1995 we, the National Park Service (NPS) are proposing to renew an information collection.

DATES: Interested persons are invited to submit comments on or before November 12, 2020.

ADDRESSES: Written comments and recommendations for the proposed information collection should be sent within 30 days of publication of this notice to www.reginfo.gov/public/do/PRAMain. Find this particular information collection by selecting “Currently under 30-day Review—Open for Public Comments” or by using the search function. Please provide a copy of your comments to Phadrea Ponds, Acting NPS Information Collection Clearance Officer, 1201 Oakridge Drive Fort Collins, CO 80525; or by email to phadrea_ponds@nps.gov. Please reference OMB Control Number 1024-0216 in the subject line of your comments.

FOR FURTHER INFORMATION CONTACT: To request additional information about this ICR, contact Bret Meldrum by email at bret_meldrum@nps.gov or by telephone at 970-267-7295. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 5, 2020, (85 FR 34646). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: As required by the Government Performance and Results Act (GPRA) codified in Public Law 103-62, the NPS uses the Visitor Survey Card (VSC) to monitor and report performance, accomplishments and progress toward pre-established management goals. The VSC is used to measure park unit's performance related to NPS Management Policy and GPRA Goals IIa1, visitor satisfaction, and IIb1, visitor understanding and appreciation. Each year, approximately 330 participating NPS units use the VSC to collect data to evaluate visitor perception and satisfaction of service and facility quality; awareness of park significance; and basic demographic information. Park managers, superintendents and the NPS Social Science Program use the information collected to understand visitor use and improve park services and facilities to develop long-term strategic plans, annual goals, and performance improvement plans.

Title of Collection: National Park Service Visitor Survey Card.

OMB Control Number: 1024-0216.

Form Number: None.

Type of Review: Extension of a currently approved collection.

Respondents/Affected Public: General public, any person visiting the national park during the sampling period.

Total Estimated Number of Annual Respondents: 67,917.

Total Estimated Number of Annual Responses: 67,917.

Estimated Completion Time per Response: 4 minutes to complete the full survey, 2 minutes for the non-response survey. Completion time includes initial contact time.

Total Estimated Number of Annual Burden Hours: 4,356 hours.

Respondent's Obligation: Voluntary.

Frequency of Collection: One-time, on occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2020-22561 Filed 10-9-20; 8:45 am]

BILLING CODE 4312-52-P